DEPARTMENT OF TRANSPORTATION

Federal Highway Administration

Notice of Availability of the Draft Program Environmental Impact Report (PEIR): Southern California Association of Governments (SCAG)

AGENCY: Federal Highway Administration (FHWA), DOT.

ACTION: Notice of Availability of the Draft Program Environmental Impact Report (PEIR).

SUMMARY: The Southern California Association of Governments (SCAG) has prepared a Draft Program Environmental Impact Report (PEIR), SCH# 2011051018, in accordance with the California Environmental Quality Act for the 2012-2035 Regional Transportation Plan and Sustainable Communities Strategy (2012-2035 RTP/SCS, Plan or Project). Please find attached the Notice of Availability of this Draft PEIR for the 2012-2035 RTP/SCS.

DATES: Hard copies will be available for review at SCAG's office in downtown Los Angeles (at the address above) and at major public libraries in the region (contact SCAG for specific locations). A limited number of CD copies are available upon request. The review period for the Draft 2012-2035 RTP/SCS begins on December 30, 2011. Written comments will be accepted until 5 p.m. on February 14, 2012.

FOR FURTHER INFORMATION CONTACT: Please direct written comments to Jacob Lieb at 2012PEIR@scag.ca.gov <mailto:2012PEIR@scag.ca.gov> or at the address shown above or visit our Web site at http://www.scag.ca.gov http://www.scag.ca.gov/. Please include a return address and the name of a contact person in your agency, if appropriate.

SUPPLEMENTARY INFORMATION: You are receiving this notice after our initial mail-out because the initial Email attempt to contact you or someone from your agency was returned as undeliverable. We apologize for any inconvenience that this may cause, but we do look forward to receiving any comments and questions regarding the PEIR.

The 2012-2035 RTP/SCS is a long-range regional transportation plan that provides a blueprint to help achieve a coordinated and balanced regional transportation system in the SCAG region.

The Proposed 2012-2035 RTP/SCS provides land use and transportation recommendations to help achieve a coordinated balance of land uses and transportation improvements such that vehicle trips and vehicle trip lengths are reduced and land is used efficiently and sustainably, thereby minimizing energy and water consumption. The 2012-2035 RTP/SCS contains transportation and urban form strategies that encourage compact growth, increased jobs/housing balance and transit-oriented development, where feasible, in all parts of the region.

The Draft PEIR will be available on SCAG's Web site at www.scag.ca.gov/peir <http://www.scag.ca.gov/peir.>

Issued on: January 18, 2012.
Shawn E. Oliver,
Transportation Engineer, Federal Highway Administration, Sacramento, California 95814-4708.

[FR Doc. 2012-1293 Filed 1-23-12; 8:45 am]

BILLING CODE 4910-22-P